DEPARTMENT OF ENERGY

Federal Energy Regulatory Commission

Combined Notice of Filings #1

Take notice that the Commission received the following Complaints and Compliance filings in EL Dockets:

Docket Numbers: EL25-43-000.

Applicants: Allco Finance Limited v. ISO New England Inc.

Description: Complaint of Allco Finance Limited v. ISO New England Inc.

Filed Date: 12/19/24.

Accession Number: 20241219-5193.

Comment Date: 5 p.m. ET 1/8/25.

Docket Numbers: EL25-44-000.

Applicants: Industrial Energy Consumers of America, et al v. Avista Corporation, et al.

Description: Complaint of Industrial Energy Consumers of America, et al. v. Avista Corporation, et al.

Filed Date: 12/19/24.

Accession Number: 20241219-5368.

Comment Date: 5 p.m. ET 2/3/25.

Take notice that the Commission received the following electric rate filings:

Docket Numbers: ER24-2888-001.

Applicants: Atlantic City Electric Company, PJM Interconnection, L.L.C.

Description: Tariff Amendment: Atlantic City Electric Company submits tariff filing per 35.17(b): ACE Response to Deficiency Letter in ER24-2888 to be effective 2/24/2025.

Filed Date: 12/20/24.

Accession Number: 20241220-5274.

Comment Date: 5 p.m. ET 1/10/25.

Docket Numbers: ER24-2889-001.

Applicants: Baltimore Gas and Electric Company, PJM Interconnection, L.L.C.

Description: Tariff Amendment: Baltimore Gas and Electric Company submits tariff filing per 35.17(b): BGE Response to Deficiency Letter in ER24-2889 to be effective 2/24/2025.

Filed Date: 12/20/24.

Accession Number: 20241220-5287.

Comment Date: 5 p.m. ET 1/10/25.

Docket Numbers: ER24-2890-001.

Applicants: Commonwealth Edison Company, PJM Interconnection, L.L.C.

Description: Tariff Amendment: Commonwealth Edison Company submits tariff filing per 35.17(b): ComEd Response to Deficiency Letter in ER24-2890 to be effective 2/24/2025.

Filed Date: 12/20/24.

Accession Number: 20241220-5290.

Comment Date: 5 p.m. ET 1/10/25.

Docket Numbers: ER24-2891-001.

Applicants: Delmarva Power & Light Company, PJM Interconnection, L.L.C.

Description: Tariff Amendment: Delmarva Power & Light Company submits tariff filing per 35.17(b): DPL Response to Deficiency Letter in ER24-2891 to be effective 2/24/2025.

Filed Date: 12/20/24.

Accession Number: 20241220-5294

Comment Date: 5 p.m. ET 1/10/25.

Docket Numbers: ER24-2893-001.

Applicants: PECO Energy Company, PJM Interconnection, L.L.C.

Description: Tariff Amendment: PECO Energy Company submits tariff filing per 35.17(b): PECO Response to Deficiency Letter in ER24-2893 to be effective 2/24/2025.

Filed Date: 12/20/24

Accession Number: 20241220-5298

Comment Date: 5 p.m. ET 1/10/25.

Docket Numbers: ER24-2894-001.

Applicants: Potomac Electric Power Company, PJM Interconnection, L.L.C.

Description: Tariff Amendment: Potomac Electric Power Company submits tariff filing per 35.17(b): Pepco Response to Deficiency Letter in ER24-2894 to be effective 2/24/2025.

Filed Date: 12/20/24.

Accession Number: 20241220-5300.

Comment Date: 5 p.m. ET 1/10/25.

Docket Numbers: ER24-3107-001.

Applicants: Evergy Kansas Central, Inc.

Description: Compliance filing: Rate Schedule No. 336 Midwest Depr Compliance Filing to be effective 1/1/2024.

Filed Date: 12/20/24.

Accession Number: 20241220-5148.

Comment Date: 5 p.m. ET 1/10/25.

Docket Numbers: ER24-3138-001.

Applicants: Midcontinent Independent System Operator, Inc.

Description: Compliance filing: 2024-12-20_Att. FF, CTA Reform Compliance Filing to be effective 11/27/2024.

Filed Date: 12/20/24.

Accession Number: 20241220-5327.

Comment Date: 5 p.m. ET 1/10/25.

Docket Numbers: ER25-206-001.

Applicants: Evergy Metro, Inc.

Description: Tariff Amendment: Wholesale Distribution Access Tariff Deficiency Filing to be effective 1/1/2025.

Filed Date: 12/20/24.

Accession Number: 20241220-5174.

Comment Date: 5 p.m. ET 1/10/25.

Docket Numbers: ER25-207-001.

Applicants: Evergy Missouri West, Inc.

Description: Tariff Amendment: Wholesale Distribution Access Tariff Deficiency Filing to be effective 1/1/2025.

Filed Date: 12/20/24.

Accession Number: 20241220-5176.

Comment Date: 5 p.m. ET 1/10/25.

Docket Numbers: ER25-208-001.

Applicants: Evergy Kansas Central, Inc.

Description: Tariff Amendment: Wholesale Distribution Access Tariff Deficiency Filing to be effective 1/1/2025.

Filed Date: 12/20/24

Accession Number: 20241220-5171

Comment Date: 5 p.m. ET 1/10/25.

Docket Numbers: ER25-229-001.

Applicants: Kuna BESS LLC.

Description: Tariff Amendment: Kuna BESS LLC, MBR Tariff to be effective 12/24/2024.

Filed Date: 12/20/24.

Accession Number: 20241220-5000.

Comment Date: 5 p.m. ET 12/30/24.

Docket Numbers: ER25-738-001.

Applicants: Midcontinent Independent System Operator, Inc.

Description: Tariff Amendment: 2024-12-20_SA 4414 Entergy Louisiana-Entergy Louisiana Sub Original GIA (R1039) to be effective 12/10/2024.

Filed Date: 12/20/24.

Accession Number: 20241220-5314.

Comment Date: 5 p.m. ET 1/10/25.

Docket Numbers: ER25-767-000

Applicants: PJM Interconnection, L.L.C.

Description: 205(d) Rate Filing: Original GIA, Service Agreement No. 7438; AF2-421/AG1-164/AG1-165 to be effective 11/20/2024.

Filed Date: 12/20/24

Accession Number: 20241220-5074

Comment Date: 5 pm ET 1/10/25.

Docket Numbers: ER25-768-000.

Applicants: Wapello Solar LLC.

Description: 205(d) Rate Filing: Change in Status to be effective 12/21/2024.

Filed Date: 12/20/24.

Accession Number: 20241220-5095

Comment Date: 5 p.m. ET 1/10/25.

Docket Numbers: ER25-769-000.

Applicants: Midcontinent Independent System Operator, Inc.

Description: 205(d) Rate Filing: 2024-12-20_SA 4417 Wolverine Power-Wolvernine Power GIA (Vestaburg) to be effective 12/11/2024.

Filed Date: 12/20/24.

Accession Number: 20241220-5106.

Comment Date: 5 p.m. ET 1/10/25.

Docket Numbers: ER25-770-000.

Applicants: Buckeye Power, Inc., PJM Interconnection, L.L.C.

Description: 205(d) Rate Filing: PJM Interconnection, L.L.C. submits tariff filing per 35.13(a)(2)(iii: Revised SA No. 4753—NITSA Among PJM and Buckeye Power, Inc. to be effective 1/1/2025.

Filed Date: 12/20/24.

Accession Number: 20241220-5169.

Comment Date: 5 p.m. ET 1/10/25.

Docket Numbers: ER25-771-000.

Applicants: PJM Interconnection, L.L.C.

Description: 205(d) Rate Filing: Original NSA Service Agreement No. 7444; Project Identifier No. AF2-354 to be effective 2/19/2025.

Filed Date: 12/20/24.

Accession Number: 20241220-5178.

Comment Date: 5 p.m. ET 1/10/25

Docket Numbers: ER25-772-000.

Applicants: Valley Electric Association, Inc.

Description: 205(d) Rate Filing: Annual TRBAA Filing for 2025 to be effective 1/1/2025.

Filed Date: 12/20/24.

Accession Number: 20241220-5179.

Comment Date: 5 p.m. ET 1/10/25

Docket Numbers: ER25-773-000.

Applicants: Southwest Power Pool, Inc.

Description: 205(d) Rate Filing: 4345 Boot Hill Solar Surplus Interconnection GIA to be effective 2/18/2025.

Filed Date: 12/20/24.

Accession Number: 20241220-5181.

Comment Date: 5 p.m. ET 1/10/25

Docket Numbers: ER25-774-000.

Applicants: Morgantown Station, LLC.

Description: Tariff Amendment: Notice of Cancellation of Market-Based Rate Tariff to be effective 12/21/2024.

Filed Date: 12/20/24.

Accession Number: 20241220-5195.

Comment Date: 5 p.m. ET 1/10/25.

Docket Numbers: ER25-775-000.

Applicants: PJM Interconnection, L.L.C.

Description: 205(d) Rate Filing: Revisions to OATT Sch. 12-Appendices re: 2025 RTEP Annual Cost Allocations to be effective 6/16/2022.

Filed Date: 12/20/24.

Accession Number: 20241220-5230.

Comment Date: 5 p.m. ET 1/10/25.

Docket Numbers: ER25-776-000.

Applicants: Midcontinent Independent System Operator, Inc.

Description: 205(d) Rate Filing: 2024-12-20_SA 4413 Wolverine Power-Wolverine Power GIA (Gaylord) to be effective 12/11/2024.

Filed Date: 12/20/24.

Accession Number: 20241220-5237.

Comment Date: 5 p.m. ET 1/10/25.

Docket Numbers: ER25-777-000.

Applicants: Southwest Power Pool, Inc.

Description: 205(d) Rate Filing: 4347 Southwestern Power Admin/WFEC Interconnection Agreement to be effective 1/1/2025.

Filed Date: 12/20/24.

Accession Number: 20241220-5248

Comment Date: 5 p.m. ET 1/10/25.

Docket Numbers:ER25-778-000.

Applicants: PJM Interconnection, L.L.C.

Description: 205(d) Rate Filing: Proposed Tariff Amendments for Surplus Interconnection Service to be effective 3/7/2025.

Filed Date: 12/20/24.

Accession Number: 20241220-5253.

Comment Date: 5 p.m. ET 1/10/25.

Docket Numbers: ER25-779-000.

Applicants: Southern California Edison Company.

Description: 205(d) Rate Filing: Amended DSA, Anza (WDT180, SA 180) + Remove eTariff Record to be effective 2/19/2025.

Filed Date: 12/20/24.

Accession Number: 20241220-5254.

Comment Date: 5 p.m. ET 1/10/25.

Docket Numbers: ER25-780-000.

Applicants: NorthWestern Corporation.

Description: 205(d) Rate Filing: Revised Exhibits to Montana Intertie Agreement to be effective 12/21/2024.

Filed Date: 12/20/24.

Accession Number: 20241220-5271.

Comment Date: 5 p.m. ET 1/10/25

Docket Numbers: ER25-781-000.

Applicants: Otter Tail Power Company.

Description: 205(d) Rate Filing: 2024-12-20_SA 4418 OTP-GRE T-LIA (10 Mile Lake) to be effective 12/17/2024.

Filed Date: 12/20/24.

Accession Number: 20241220-5278.

Comment Date: 5 p.m. ET 1/10/25.

Docket Numbers: ER25-782-000.

Applicants: PJM Interconnection, L.L.C.

Description: 205(d) Rate Filing: GIA SA No. 7442 & CSA SA No. 7443;AE2-316/AF1-302 & Cancellation of ISA No. 6911 to be effective 11/25/2024.

Filed Date: 12/20/24.

Accession Number: 20241220-5330.

Comment Date:5 p.m. ET 1/10/25.

Docket Numbers: ER25-783-000.

Applicants: PJM Interconnection, L.L.C.

Description: 205(d) Rate Filing: Credit Review of Bilateral Capacity Transactions Proposal to be effective 7/26/2024

Filed Date: 12/20/24.

Accession Number: 20241220-5373.

Comment Date: 5 p.m. ET 1/10/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 20, 2024.
Debbie-Anne A. Reese,
Secretary.

[FR Doc. 2024-31337 Filed 12-27-24; 8:45 am]

BILLING CODE 6717-01-P